DEPARTMENT OF AGRICULTURE

Submission for OMB Review; Comment Request

February 15, 2019.

The Department of Agriculture has submitted the following information collection requirement(s) to Office of Management and Budget (OMB) for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical, or other technological collection techniques or other forms of information technology.

Comments regarding this information collection received by March 25, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Utilities Service

Title: Certification of Authority.

OMB Control Number: 0572-0074.

Summary of Collection: The Rural Utilities Service (RUS) is a credit agency of the U.S. Department of Agriculture (USDA). It makes mortgage loans and loan guarantees to finance electric, telecommunications, and water and waste facilities in rural areas. Rural Electrification Act of 1936, 7 U.S.C. 901 et seq, as amended, (RE ACT) and as prescribed by Office of Management and Budget (OMB) Circular A-129, Policies for Federal Credit Programs and Non-Tax Receivables, which states that agencies must, based on a review of a loan application, determine that an applicant complies with statutory, regulatory, and administrative eligibility requirements for loan assistance. A major factor in managing loan programs is controlling the advancement of funds. RUS Form 675 allows this control to be achieved by providing a list of authorized signatures against which signatures requesting funds are compared.

Need and Use of the Information: RUS will collect information to ensure that only authorized representatives of the borrower signs the lending requisition form. Without the information RUS would not know if the request for a loan advance was legitimate or not and the potential for waste, loss, unauthorized use, and misappropriation would be increased.

Description of Respondents: Not-for-profit institutions; Business or other for-profit.

Number of Respondents: 163.

Frequency of Responses: Reporting: On occasion.

Total Burden Hours: 16.

Rural Utilities Service

Title: 7 CFR part 1721, Extensions of Payments of Principal and Interest.

OMB Control Number: 0572-0123.

Summary of Collection: The Rural Utilities Service (RUS) electric program provides loans and loan guarantees to borrowers at interest rates and on terms that are more favorable than those generally available from the private sector. Procedures and conditions which borrowers may request extensions of the payment of principal and interest are authorized, as amended, in Section 12 of the Rural Electrification Act of 1936, and Section 236 of the “Disaster Relief Act of 1970 (Pub. L. 91-606), as amended by the Department of Agriculture Reorganization Act of 1994 (Pub. L. 103-354). As a result of obtaining federal financing, RUS borrowers receive economic benefits that exceed any direct economic costs associated with complying with (RUS) regulations and requirements.

Need and Use of the Information: The collection of information occurs only when the borrower requests an extension of principal and interest. Eligible purposes include financial hardship, energy resource conservation loans, renewable energy project, and contributions-in-aid of construction. These procedures are codified at 7 CFR part 1721, subpart B. The collections are made to provide needed benefits to borrowers while also maintaining the integrity of RUS loans and their repayment of taxpayer's monies.

Description of Respondents: Business or other for-profits; Not for-profit institutions.

Number of Respondents: 7.

Frequency of Responses: Reporting: On occasion.

Total Burden Hours: 61.

Rural Utilities Service

Title: Request for Approval to Sell Capital Assets.

OMB Control Number: 0572-0020.

Summary of Collection: The Rural Utilities Service (RUS) is a credit agency of the U.S. Department of Agriculture (USDA). It makes mortgage loans and loan guarantees to finance electric, telecommunications, and water and waste facilities in rural areas. In addition to providing loans and loan guarantees, one of RUS' main objectives is to safeguard loan security until the loan is repaid. Accordingly, RUS manages loan programs in accordance with the Rural Electrification Act of 1936, 7 U.S.C. 901 et.seq., as amended, (RE ACT) and as prescribed by Office of Management and Budget (OMB) Circular A-129, Policies for Federal Credit Programs and Non-Tax Receivables, which states that agencies must, based on a review of a loan application, determine that an applicant complies with statutory, regulatory, and administrative eligibility requirements for loan assistance.

Need and Use of the Information: RUS borrower will use form 369, Request for Approval to Sell Capital Assets, to seek agency permission to sell some of its assets. The form is used to collect detailed information regarding the proposed sale of a portion of the borrowers systems. RUS will collect information to determine whether or not the agency should approve a sale and also to keep track of what property exists to secure the loan. If the information in Form 369 is not collected when capital assets are sold, the capital assets securing the Government's loans could be liquidated and the Government's security either eliminated entirely or diluted to an undesirable level.

Description of Respondents: Not-for-profit institutions; Business or other for-profit.

Number of Respondents: 33.

Frequency of Responses: Reporting: On occasion.

Total Burden Hours: 99.

Kimble Brown,
Departmental Information Collection Clearance Officer.

[FR Doc. 2019-02974 Filed 2-20-19; 8:45 am]

BILLING CODE 3410-15-P